DEPARTMENT OF HOMELAND SECURITY

Coast Guard

[USCG-2012-0848]

Lifesaving and Fire-Fighting Equipment, Training and Drills Onboard Offshore Facilities and Mobile Offshore Drilling Units (MODUs) Operating on the U.S. Outer Continental Shelf (OCS)

AGENCY: Coast Guard, DHS.

ACTION: Notice of recommended interim voluntary guidance with request for comments.

SUMMARY: As part of its continuing response to the explosion, fire and sinking of the Mobile Offshore Drilling Unit (MODU) DEEPWATER HORIZON, in the Gulf of Mexico on April 20, 2010, with loss of life, the Coast Guard announces recommended interim voluntary guidance concerning lifesaving and fire-fighting equipment, training, and drills onboard manned offshore facilities and MODUs operating on the U.S. Outer Continental Shelf (OCS), and requests comments on that guidance. Comments received on the docket will be considered in our ongoing evaluation of the safety of offshore facilities.

DATES: The policy on recommended guidance described in this notice is effective November 23, 2012. Comments and related materials must reach the Docket Management Facility by February 21, 2013.

ADDRESSES: You may submit comments identified by docket number USCG-2012-0848 using any one of the following methods. To avoid duplication, please use only one of these four methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. See the “Public Participation” portion of the SUPPLEMENTARY INFORMATION section below for instructions on submitting comments.

Documents mentioned as being available in the docket are part of docket USCG-2012-0848 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0848 in the “Keyword” box, and then clicking “Search.”

FOR FURTHER INFORMATION CONTACT: If you have questions on this notice, call or email Mr. Randall Eberly, U.S. Coast Guard, Office of Design and Engineering Standards, Lifesaving and Fire Safety Division (CG-ENG-4), telephone (202) 372-1393, email Randall.Eberly@uscg.mil.

SUPPLEMENTARY INFORMATION:

I. Public Participation

You may submit comments and related material regarding whether this recommended interim voluntary guidance should be incorporated into future rulemaking documents concerning lifesaving and fire-fighting equipment, training and drills on board offshore facilities and MODUs operating on the U.S. Outer Continental Shelf. All comments received will be posted, without change, to http://www.regulations.gov and will include any personal information you have provided.

Submitting Comments

If you submit a comment, please include the docket number for this notice (USCG-2012-0848) and provide a reason for each suggestion or recommendation. You may submit your comments and material online or by fax, mail or hand delivery, but please use only one of these means. We recommend that you include your name and a mailing address, an email address, or a telephone number in the body of your document so that we can contact you if we have questions regarding your submission.

To submit your comment online, go to http://www.regulations.gov and insert “USCG-2012-0848” in the “Search” box. Click “Search,” find this notice in the list of Results, and then click on the corresponding “Comment Now” box. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing the Comments

To view comments, as well as documents mentioned in this notice as being available in the docket, go to http://www.regulations.gov and insert “USCG-2012-0848” in the “Search” box. Click “Search” and use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act system of records notice regarding our public dockets in the January 17, 2008, issue of the Federal Register (73 FR 3316).

II. Background and Interim Voluntary Guidance

The Report of Investigation into the Circumstances Surrounding the Explosion, Fire, Sinking and Loss of Eleven Crew Members Aboard the Mobile Offshore Drilling Unit DEEPWATER HORIZON in the Gulf of Mexico, April 20-22, 2010, and related Commandant's Final Action Memo, dated September 9, 2011, (hereinafter referred to as “Report”) contain a number of recommendations for OCS safety improvements that are presently being evaluated for further regulatory action. (These documents may be found in the docket for this action, as indicated under ADDRESSES). The Coast Guard believes that the five recommendations discussed below could yield significant safety improvements, and, pending issuance of further regulatory action, urges operators of MODUs and manned offshore facilities on the U.S. OCS to consider voluntary compliance with these items, to the extent appropriate and practicable.

(a) Fixed Deluge Systems for Drill Floor Protection (Safety Recommendation 2D)

The Report recommended that a fixed deluge system or multiple high capacity water monitors should be installed for the protection of the drill floor and adjacent areas, with consideration given to requiring automatic operation upon gas detection.

We are considering proposing requirements for installation of such systems, since it is believed that, in some circumstances, early employment of a deluge or monitor spray system during a drilling mishap could serve to prevent or delay ignition of an uncontrolled release of product and/or mitigate the effects of ignition.

As an interim measure, we recommend that operators of MODUs and manned offshore facilities should consider installation of fixed water spray systems for the protection of critical drill floor equipment, structural components and intervening fire barriers. A minimum water application rate of at least 0.50 gpm/ft² is recommended. If fixed high capacity water monitors are used as an alternative measure, use of at least two dual purpose fixed monitors, each with a minimum flow rate and pressure of 500 gpm at 100 psi should be considered. The monitors should be arranged for remote operation, or local manual operation from a protected location not likely to be cut off during a fire.

(b) Carrying Capacity of Lifeboats (Safety Recommendation 3C)

The Report recommended that the Commandant work to amend the International Maritime Organization (IMO) Life-Saving Appliance Code (LSA Code) and its associated testing recommendations to ensure the adequacy of lifesaving appliance standards. In particular, the minimum average occupant weight of 165 or 181.5 lbs presently used to determine the carrying capacity of lifeboats is not considered representative of the weight of average offshore workers on the U.S. OCS, and thus lifeboat embarkation and evacuation could be hampered in an emergency due to occupant size.

We believe the existing requirements in the LSA Code, and associated Coast Guard type approval standards, are adequate for most shipboard applications subject to IMO requirements. Nevertheless, they are minimums. The number of requests the Coast Guard has received from offshore operators for approval of lifeboats designed to accommodate offshore workers larger than the average population is consistent with the Report's conclusion that current lifeboat design and testing requirements are not adequate for the physical build of the average offshore worker today. The Coast Guard is therefore considering proposing requirements for higher average occupant weight and size standards specifically for lifeboats used on MODUs and offshore facilities.

We recommend that operators of MODUs and manned offshore facilities should consider specifying any new or replacement lifeboats on the basis of an occupant average weight of at least 95 kg (210 lbs) per person (versus the current standard of 82.5 kg (181.5 lbs)), with a minimum seat width of 530 mm (21 inches) (versus the current standard of 430 mm (17 inches)). A number of Coast Guard approved SOLAS lifeboats have already been approved to this standard by request of the customer(s), and are currently available for use on OCS facilities.

(c) Training in the Deployment of Davit-Launched Liferafts (Safety Recommendation 3D)

The Report recommended that the Commandant clarify 46 CFR 109.213(g)(5), which requires that onboard training in the use of davit-launched liferafts must take place at intervals of not more than 4 months, and that “whenever practicable”, this must include the inflation and lowering of a liferaft. The regulations permit the inflation and lowering of a davit launched liferaft to be performed only “whenever practicable” because an operational raft would need to be taken out of service to perform the drill, and would remain out of service until inspected and repacked by an approved servicing facility ashore. It was anticipated that the requirement to deploy the rafts “whenever practicable” would encourage scheduling drills to coordinate with the required periodic servicing of the facility's liferafts, to avoid having them repeatedly sent for servicing. However, the current requirement to inflate and deploy a liferaft “whenever practicable” also potentially allows for indefinite deferral of this important training.

To promote hands-on familiarity with davit-launched liferaft operations, the Coast Guard is considering proposing requirements for drills to include the inflation and lowering of a davit-launched liferaft at specified intervals.

In the interim, we recommend that operators of MODUs and manned offshore facilities fitted with davit-launched liferafts should consider the carriage of a dedicated training liferaft (which need not be serviced at an authorized facility after it is used in drills) for the crew to practice the necessary steps for successful deployment, including inflation of the raft, connection to the launching appliance, lowering, and recovery of the liferaft.

Alternatively, when the liferafts onboard the MODU or facility become due for required periodic servicing, the crew should be permitted to deploy them during drills, prior to being sent to a shoreside approved facility for servicing and repacking.

(d) Carriage of Dedicated Rescue Boats (Safety Recommendation 3J)

The Report recommended that the Commandant work with IMO to amend the Code for the Construction and Equipment of Mobile Offshore Drilling Units (MODU Code) to prohibit the dual purpose acceptance of life boats as rescue boats on MODUs.

The Coast Guard believes totally enclosed lifeboats are not well suited for use as rescue boats on MODUs and offshore facilities, and is considering changing the regulations that permit this practice. When a dual purpose life/rescue boat is fully loaded and being used as a survival craft, it is not available for use as a rescue boat, and vice versa. Rescue boats are primarily intended to marshal liferafts, and for man overboard situations. In order to carry out this mission, they are fitted with special launching and retrieval appliances that allow their recovery onboard in harsh weather and sea conditions. Dual purpose lifeboats do not have similar launching and retrieval capability, and on MODUs and offshore facilities, lifeboats can be difficult or impossible to safely recover in anything but the most benign conditions due to the large air gap and the lack of a ship's side to potentially provide a lee.

Until new regulations are proposed, we recommend that operators of new MODUs and manned offshore facilities should provide a dedicated approved SOLAS rescue boat (USCG approval series 160.156 or equivalent) and dedicated approved launching appliance instead of relying on a dual approved life/rescue boat to meet this requirement. Operators of existing MODUs or facilities that currently use a dual approved life/rescue boat to meet this requirement are urged to supplement their life saving capability with a dedicated approved SOLAS rescue boat and launching appliance.

For MODUs or facilities with a large air gap, operators should consider the improved launching and recovery capabilities of an approved fast rescue boat with a dedicated fast rescue boat launching appliance (which is equipped with motion damping and a constant tensioning winch).

(e) Quarterly Man Overboard Drills (Safety Recommendation 3M)

The Report recommended the Commandant amend 46 CFR 109.213 to require performance of a man overboard drill on at least a quarterly basis.

We agree that 46 CFR 109.213, as well as the relevant OCS Activities regulations in 33 CFR Subchapter N, should include a quarterly man overboard drill, and are considering proposing regulation changes for this purpose.

Until new requirements are proposed, the Coast Guard urges operators of all MODUs and manned offshore facilities on the U.S. OCS to consider performing a man overboard drill on at least a quarterly basis, including deployment of a rescue boat, where provided, to simulate the recovery of a person from the water.

III. Authority

This document is issued under the authority of 5 U.S.C. 552(a), 43 U.S.C. 1331, et seq., and 33 CFR 1.05-1. The guidance contained in this notice is not a substitute for applicable legal requirements, nor is it itself a rule. It is not intended to nor does it impose legally binding requirements on any party. It represents the Coast Guard's current thinking on this topic and provides the public with an indication of future action being considered by the Coast Guard.

Dated: October 24, 2012.
J.G. Lantz,
Director of Commercial Regulations and Standards, U.S. Coast Guard.

[FR Doc. 2012-28487 Filed 11-21-12; 8:45 am]

BILLING CODE 9110-04-P